DEPARTMENT OF HOUSING AND URBAN DEVELOPMENT

[Docket No. FR-7056-N-06]

60-Day Notice of Proposed Information Collection: Manufactured Home Construction and Safety Standards Program, OMB Control No.: 2502-0233

AGENCY: Office of the Assistant Secretary for Housing—Federal Housing Administration, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 24, 2022.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Manufactured Home Construction and Safety Standards Program.

OMB Approval Number: 2502-0233.

OMB Expiration Date: November 30, 2022.

Type of Request: Revision of a currently approved collection.

Form Numbers: HUD-101, HUD-203, HUD-203B, HUD-301, HUD-302, HUD-303, HUD-304.

Description of the need for the information and proposed use: This information collection is used in conjunction with certification labels, which are 2-inch x 4-inch metal tags permanently attached to each section of manufactured homes to provide a unique identifying number to each section of home produced under 24 CFR chapter XX part 3280, the Manufactured Home Construction and Safety Standards (Standards). Manufacturers are required to affix labels to all manufactured homes to be sold or leased in the United States, to certify compliance with the Standards in accordance with 24 CFR 3280.11, 24 CFR 3282.204, and 24 CFR 3282.205.

Respondents are both approved Production Inspection Primary Inspections Agencies (IPIAs) as described in 24 CFR 3282.362, and manufacturers, as defined in 24 CFR 3282.7. HUD issues certification labels to IPIAs and those certification labels are re-distributed to manufacturers in accordance with the rules. Manufacturers pay the fee designated in 24 CFR 3284.5. The information collection is necessary to ensure label control, production levels, and provide certification label association to allow the Department to identify a manufactured home after it leaves the plant and to ensure that the certification label fee has been paid. The information will also facilitate any recall or safety-related defect campaigns and provide the data that is needed to pay required fees or credits for program participants in the various states where such homes are manufactured and located.

HUD has updated the number of respondents based on current industry characteristics. The number of manufacturing plants has increased and the number of burden hours per response on the HUD-302 Monthly Production Report has been increased to one hour. Form HUD-203B has been revised to include a field for “Explanation of Damage/Repair.” The forms have also been updated to include more precise burden statements.

Respondents: Business or other for-profit; State, Local or Tribal Government.

Estimated Number of Respondents: 151.

Estimated Number of Responses: 5,153.

Frequency of Response: Monthly.

Average Hours per Response: 1.0 burden hour for HUD-302; 0.5 burden hours for all other forms included with this information collection.

Total Estimated Burden: 3,410 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Janet M. Golrick,
Acting, Chief of Staff for the Office of Housing, Federal Housing Administration.

[FR Doc. 2022-06281 Filed 3-24-22; 8:45 am]

BILLING CODE 4210-67-P